DEPARTMENT OF COMMERCE

Economic Development Administration

Notice of Petitions by Firms for Determination of Eligibility To Apply for Trade Adjustment Assistance

AGENCY: Economic Development Administration, Department of Commerce.

ACTION: Notice and Opportunity for Public Comment.

Pursuant to Section 251 of the Trade Act 1974, as amended (19 U.S.C. 2341 et seq.), the Economic Development Administration (EDA) has received petitions for certification of eligibility to apply for Trade Adjustment Assistance from the firms listed below. Accordingly, EDA has initiated investigations to determine whether increased imports into the United States of articles like or directly competitive with those produced by each of these firms contributed importantly to the total or partial separation of the firm's workers, or threat thereof, and to a decrease in sales or production of each petitioning firm.

List of Petitions Received by EDA for Certification Eligibility To Apply for Trade Adjustment Assistance
[5/23/2013 through 5/29/2013]
Firm name | Firm address | Date accepted for investigation | Product(s)
7 Mile Solutions, Inc. | 7540 Caldwell Avenue, Niles, IL 60714 | 5/22/2013 | Firm manufactures electromechanical assemblies for the medical and industrial industries.
R&R Tool & Manufacturing, Inc. | 1540 Lake St, LaPorte, IN 46350 | 5/22/2013 | Firm manufacturers metal parts for air compressors from sheet metal, aluminum and stainless steel.
SAY Plastics, Inc. | 165 Oak Lane, McSherrystown, PA 17344 | 5/24/2013 | Firm manufactures thermoformed plastic components and assemblies for various industries that include medical, transportation and recreation.
AMMAC, Inc. | 3405 Board Road, York, PA 17406 | 5/24/2013 | The firm produces metal parts such as spacers, washers, bushings and pins on multi-spindle automatic screw machines.
K&F Electronics, Inc. | 33041 Groesbeck Highway, Fraser, MI 48026 | 5/24/2013 | Firm manufacturers printed circuit boards.
Jasper Rubber Products, Inc. | 1010 1st Ave W, Jasper, IN 47546 | 5/28/2013 | Firm manufactures molded, extruded and lathe-cut rubber gaskets, washers and other seals.
Weaver Manufacturing, Inc | 1812 Nelwood Drive, Columbia, MO 65202 | 5/28/2013 | Firm manufactures respirator mask assemblies.
Integrated Process Systems, Inc | 2183 W. Park Avenue, Cedar City, UT 84721 | 5/24/2013 | Firm manufactures industrial machinery, specifically wet process equipment for the printed circuit board industry.

Any party having a substantial interest in these proceedings may request a public hearing on the matter. A written request for a hearing must be submitted to the Trade Adjustment Assistance for Firms Division, Room 71030, Economic Development Administration, U.S. Department of Commerce, Washington, DC 20230, no later than ten (10) calendar days following publication of this notice.

Please follow the requirements set forth in EDA's regulations at 13 CFR 315.9 for procedures to request a public hearing. The Catalog of Federal Domestic Assistance official number and title for the program under which these petitions are submitted is 11.313, Trade Adjustment Assistance for Firms.

Dated: May 29, 2013.
Michael DeVillo,
Eligibility Examiner.

[FR Doc. 2013-13150 Filed 6-3-13; 8:45 am]

BILLING CODE 3510-WH-P